DEPARTMENT OF STATE

22 CFR Part 126

[Public Notice: 6027]

Amendment to the International Arms Traffic in Arms Regulations: UN Embargoed Countries

AGENCY: Department of State.

ACTION: Final rule.

SUMMARY: The Department of State is amending the text of the International Traffic in Arms Regulations (ITAR), Exports and Sales Prohibited by United Nations Security Council Embargoes, to add a list of the countries subject to such United Nations embargoes.

EFFECTIVE DATE: This rule is effective December 18, 2007.

ADDRESSES: Interested parties may submit comments at any time by any of the following methods:

• E-mail: DDTCResponseTeam@state.gov with an appropriate subject line.

• Mail: Department of State, Directorate of Defense Trade Controls, Office of Defense Trade Controls Policy, ATTN: Regulatory Change, ITAR § 126.1(c), SA-1, 12th Floor, Washington, DC 20522-0112.

• Hand Delivery or Courier (regular work hours only): Department of State, Directorate of Defense Trade Controls, Office of Defense Trade Controls Policy, ATTENTION: Regulatory Change, ITAR § 126.1(c), SA-1, 12th Floor, 2401 E Street, NW., Washington, DC 20037.

Persons with access to the Internet may also view this notice by going to the regulations.gov Web site at http://regulatons.gov/index.cfm.

FOR FURTHER INFORMATION CONTACT: Director Ann Ganzer, Office of Defense Trade Controls Policy, Department of State, Telephone (202) 663-2792 or Fax (202) 261-8199; E-mail DDTCResponseTeam@state.gov. ATTN: Regulatory Change, ITAR § 126.1(c)

SUPPLEMENTARY INFORMATION: Regulations concerning exports and sales prohibited by United Nations Security Council embargoes are amended to add a list of the countries subject to such United Nations embargoes. United Nations Arms Embargoes include, but are not necessarily limited to the following countries: Cote d'Ivoire, Democratic Republic of Congo, Iraq, Iran, Lebanon, Liberia, North Korea, Rwanda, Sierra Leone, Somalia, and Sudan.

Regulatory Analysis and Notices

Administrative Procedure Act

This amendment involves a foreign affairs function of the United States and, therefore, is not subject to the procedures required by 5 U.S.C. 553 and 554.

Regulatory Flexibility Act

This rule does not require analysis under the Regulatory Flexibility Act.

Unfunded Mandates Act of 1995

This rule does not require analysis under the Unfunded Mandates Reform Act.

Small Business Regulatory Enforcement Fairness Act of 1996

This amendment has been found not to be a major rule within the meaning of the Small Business Regulatory Enforcement Fairness Act of 1996. It will not have substantial direct effects on the States, the relationship between the national Government and the States, or on the distribution of power and responsibilities among the various levels of government.

Executive Orders 12372 and 13132

It is determined that this rule does not have sufficient federalism implications to warrant application of the consultation provisions of Executive Orders 12372 and 13132.

Executive Order 12866

This amendment is exempt from review under Executive Order 12866, but has been reviewed internally by the Department of State to ensure consistency with the purposes thereof.

Paperwork Reduction Act

This rule does not impose any new reporting or recordkeeping requirements subject to the Paperwork Reduction Act, 44 U.S.C. Chapter 35.

List of Subjects in 22 CFR Part 126

Arms and munitions, Exports.

Accordingly, for the reasons set forth above, Title 22, Chapter I, Subchapter M, part 126 is amended as follows:

PART 126—GENERAL POLICIES AND PROVISIONS

1. The authority citation for part 126 continues to read as follows:

Authority: Secs. 2, 38, 40, 42, and 71, Pub. L. 90-629, 90 Stat. 744 (22 U.S.C. 2752, 2778, 2780, 2791, and 2797); E.O. 11958, 42 FR 4311; 3 CFR, 1977 Comp., p. 79; 22 U.S.C. 2651a; 22 U.S.C. 287c; E.O. 12918, 59 FR 28205, 3 CFR, 1994 Comp., p. 899; Sec. 1225, Pub. L. 108-375.

2. Section 126.1 is amended by revising paragraph (c) to read as follows:

§ 126.1 Prohibited exports and sales to certain countries.

* * * * *

(c) Exports and sales prohibited by United Nations Security Council embargoes. Whenever the United Nations Security Council mandates an arms embargo, all transactions that are prohibited by the embargo and that involve U.S. persons anywhere, or any person in the United States, and defense articles or services of a type enumerated on the United States Munitions List (22 CFR part 121), irrespective of origin, are prohibited under the ITAR for the duration of the embargo, unless the Department of State publishes a notice in the Federal Register specifying different measures. This would include, but is not limited to, transactions involving trade by U.S. persons who are located inside or outside of the United States in defense articles or services of U.S. or foreign origin that are located inside or outside of the United States. United Nations Arms Embargoes include, but are not necessarily limited to, the following countries:

(1) Cote d'Ivoire

(2) Democratic Republic of Congo (see also paragraph (i) of this section)

(3) Iraq

(4) Iran

(5) Lebanon

(6) Liberia

(7) North Korea

(8) Rwanda (see also paragraph (h) of this section)

(9) Sierra Leone

(10) Somalia

(11) Sudan

* * * * *

Dated: November 30, 2007.
John C. Rood,
Acting Under Secretary for Arms Control and International Security, Department of State.

[FR Doc. E7-24352 Filed 12-17-07; 8:45 am]

BILLING CODE 4710-25-P